DEPARTMENT OF TRANSPORTATION

Federal Railroad Administration

[Docket No. FRA-2024-0112]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before January 27, 2025.

ADDRESSES: Written comments and recommendations for the proposed ICR should be submitted on regulations.gov to the docket, Docket No. FRA-2024-0112. All comments received will be posted without change to the docket, including any personal information provided. Please refer to the assigned OMB control number (2130-NEW) in any correspondence submitted. FRA will summarize comments received in a subsequent 30-day notice.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Class I Railroads Annual Excepted Track Inventory.

OMB Control Number: 2130-NEW.

Abstract: FRA's Track Safety Standards (TSS; 49 CFR part 213) prescribe minimum safety requirements for railroad track that is part of the general railroad system of transportation. The TSS were first established in October 1971, following the enactment of the Federal Railroad Safety Act of 1970 in which Congress granted FRA comprehensive authority over “all areas of railroad safety.” 49 U.S.C. 20103. The TSS are an evolving set of safety requirements, subject to continuous revision, allowing the regulations to keep pace with industry innovations and agency research and development.

FRA added the excepted track provision (§ 213.4) to the TSS in 1982 in response to an industry outcry for regulatory relief on those rail lines producing little or no income. With some limitations, § 213.4 permits railroads to designate track as “excepted” from compliance with minimum safety requirements for roadbed, track geometry, and track structure. FRA believed that without some relief for low density lines, railroads would accelerate abandonment of those lines rather than invest their slim resources where returns would be limited. In 1998, FRA amended § 213.4, by adding new safety requirements, after FRA and state inspectors found instances where railroads had taken advantage of the permissive language in the 1982 provision to conduct operations in a manner not envisioned when FRA drafted the provision. At the time of those revisions, it was estimated there were between 8,000 and 9,000 miles of excepted track nationwide.

Over 25 years later, to better understand the current condition of rail infrastructure in the United States, FRA is seeking to compare the current amount of excepted track to historic levels. FRA is also seeking to better understand the extent and manner in which the industry is utilizing the excepted track provision. Additionally, while FRA has not currently found systemic misuse of excepted track or evidence of significant safety concerns, FRA has received complaints alleging misuse of § 213.4, and the information FRA proposes to collect as part of this new ICR will be useful in ensuring that the provision continues to be used in a safe and effective manner.

Accordingly, FRA is initiating this new ICR to gather excepted track data from all Class I freight railroads. Specifically, the proposed information collection will request that the railroads provide FRA with data regarding the amount of excepted track currently in operation (number of track miles and tonnage). The requested data will be collected using Excel-based form FRA F 6180.289 Class I Railroads Annual Excepted Track Inventory Reporting. To minimize the burden of this ICR, FRA is requesting an annual inventory (for three years) only of Class I freight railroads' excepted track. FRA believes all Class I freight railroads already maintain lists of excepted track locations and tonnage, so the effort to report the requested information should be minimal. Once FRA has collected this information, it will be used to help confirm that the excepted track provision continues to be used in a safe and effective manner, and consistent with the original intent of § 213.4.

Type of Request: Approval of a new collection of information.

Affected Public: Railroads.

Form(s): FRA F 6180.289.

Respondent Universe: 6.

Frequency of Submission: Annually.

Reporting Burden: 2 hours per railroad per year.

Total Estimated Annual Responses: 6.

Total Estimated Annual Burden: 12 hours per year.

Total Estimated Annual Burden Hour Dollar Cost Equivalent: $1,069.56.¹

¹ The dollar equivalent cost is derived from the 2023 Surface Transportation Board Full Year Wage A&B data series using employee group 200 (Professional Administrative Staff) hourly wage rate of $50.93. The total burden wage rate (straight time plus 75%) used is $89.13 ($50.93 × 1.75 = $89.13).

FRA informs all interested parties that it may not conduct or sponsor, and a respondent is not required to respond to, a collection of information that does not display a currently valid OMB control number.

Authority: 44 U.S.C. 3501-3520.

Christopher S. Van Nostrand,
Deputy Chief Counsel.

[FR Doc. 2024-27696 Filed 11-25-24; 8:45 am]

BILLING CODE 4910-06-P